DEPARTMENT OF HOMELAND SECURITY

Federal Emergency Management Agency

[Docket ID FEMA-2009-0001]

Agency Information Collection Activities: Proposed Collection; Comment Request, 1660-0017; Public Assistance Program

AGENCY: Federal Emergency Management Agency, DHS.

ACTION: Notice; 60-day notice and request for comments; revision of a currently approved information collection; OMB No. 1660-0017; Public Assistance Program; FEMA Form 90-49, Request for Public Assistance; FEMA Form 90-91, Project Worksheet (PW); FEMA Form 90-91A, Project Worksheet—Damage Description and Scope of Work Continuation Sheet; FEMA Form 90-91B, Project Worksheet—Cost Estimate Continuation Sheet; FEMA Form 90-91C Project Worksheet—Maps and Sketches Sheet; FEMA Form 90-91D, Project Worksheet—Photo Sheet; FEMA Form 90-120, Special Considerations Questions; FEMA Form 121, PNP Facility Questionnaire; FEMA Form 90-123, Force Account Labor Summary Record; FEMA Form 90-124, Materials Summary Record; FEMA Form 90-125, Rented Equipment Summary Record; FEMA Form 90-126, Contract Work Summary Record; FEMA Form 90-127, Force Account Equipment Summary Record; and FEMA Form 90-128, Applicant's Benefits Calculation Worksheet.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning the information collected by FEMA to make determinations for Public Assistance payments.

DATES: Comments must be submitted on or before January 19, 2010.

ADDRESSES: To avoid duplicate submissions to the docket, please use only one of the following means to submit comments:

(1) Online. Submit comments at www.regulations.gov under docket ID FEMA-2009-0001. Follow the instructions for submitting comments.

(2) Mail. Submit written comments to Office of Chief Counsel, Regulation and Policy Team, DHS/FEMA, 500 C Street, SW., Room 835, Wash, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Clifford Brown, Program Specialist, Public Assistance Grant Program at (202) 646-4136 for additional information. You may contact the Records Management Branch for copies of the proposed collection of information at facsimile number (202) 646-3347 or e-mail address: FEMA-Information-Collections@dhs.gov.

SUPPLEMENTARY INFORMATION: The information collected is required for the Public Assistance (PA) Program eligibility determinations, grants management, and compliance with other Federal laws and regulations. The Robert T. Stafford Disaster Relief and Emergency Assistance Act, 42 U.S.C. 5121-5207 (the Stafford Act), authorizes financial and other forms of assistance to State and local governments and certain Private Nonprofit (PNP) organizations to support the response, recovery, and mitigation efforts following Presidentially declared major disasters and emergencies. 44 CFR Part 206 specifies the information collections necessary to facilitate the provision of assistance under the PA Program.

Pursuant to 44 CFR 206.202(c), the Grantee is required to submit a completed Request, FEMA Form 90-49 for each applicant who requests Public Assistance. Section 206.202(d) requires the applicant to submit a Project Worksheet (FEMA Forms 90-91, 90-91A, 90-91B, 90-91C, and 90-91D) for each project. The Project Worksheet must identify the eligible scope of work and must include a quantitative estimate for the eligible work. As a supplement to the Project Worksheet, FEMA also requires a Special Considerations form, FEMA Form 90-120, and an Applicant's Benefits Calculation Worksheet, FEMA Form 90-128. There are also various optional forms to aid the applicant in preparing and submitting the Project Worksheet.

Pursuant to 44 CFR 206.207, States are required to develop a State Administrative plan to administer the PA Program. The submission of the State Administrative Plan is required as a condition of receiving PA funding. FEMA must approve a State Administrative Plan before awarding any project grant assistance to a community or State applicant. The State must submit a revised plan annually. In addition, FEMA will request that the State amend its plan to meet current policy guidance in each disaster for which Public Assistance is included.

Pursuant to 44 CFR 206.204(c), the Grantee may to approve time extensions for the completion of projects for an additional six months for debris clearance and emergency work and an additional 30 months for permanent work. Time extensions beyond the Grantee's authority (i.e., beyond the extensions available under section 206.204(c)), must be submitted by the Grantee to FEMA, pursuant to 44 CFR 206.204(d). Such extensions require the Regional Administrator's approval in writing, pursuant to 44 CFR 206.204(d)(2).

A subgrantee may request additional funding through the Grantee to the Regional Administrator for cost overruns, pursuant to 44 CFR 206.204(e). All requests for the Regional Administrator's approval must contain sufficient documentation to support the eligibility of all claimed work and costs. The Grantee must include a written recommendation when forwarding the request to the Regional Administrator.

Pursuant to 44 CFR 206.204(f), progress reports must be submitted by the Grantee to the Regional Administrator on a quarterly basis. The Regional Administrator and Grantee negotiate the date for submission of the first report. Progress reports describe the status of those projects on which a final payment of the Federal share has not been made to the Grantee, and outline any problems or circumstances expected to result in noncompliance with the approved grant conditions.

Once FEMA has made a determination on an application or project, the applicant may appeal that determination. If an applicant seeks appeal, 44 CFR 206.206 requires an applicant to submit a request for appeal, and the Grantee to submit a recommendation regarding the applicant's request. For those projects over $500,000.00 resulting from Hurricanes Katrina or Rita (DR-1603, DR-1604, DR-1605, DR-1606, and DR-1607), applicants may seek arbitration in lieu of an appeal. To seek arbitration, applicants must submit a request for arbitration which may be accompanied by a recommendation from the Grantee. Arbitration is authorized by Section 601 of the American Recovery and Reinvestment Act of 2009 (Pub. L. 111-5) and 44 CFR 206.209.

Collection of Information

Title: Public Assistance Program.

Type of Information Collection: Revision of a currently approved information collection.

OMB Number: 1660-0017.

Form Titles and Numbers: FEMA Form 90-49, Request for Public Assistance; FEMA Form 90-91, Project Worksheet (PW); FEMA Form 90-91A, Project Worksheet—Damage Description and Scope of Work Continuation Sheet; FEMA Form 90-91B, Project Worksheet—Cost Estimate Continuation Sheet; FEMA Form 90-91C Project Worksheet—Maps and Sketches Sheet; FEMA Form 90-91D, Project Worksheet—Photo Sheet; FEMA Form 90-120, Special Considerations Questions; FEMA Form 121, PNP Facility Questionnaire; FEMA Form 90-123, Force Account Labor Summary Record; FEMA Form 90-124, Materials Summary Record; FEMA Form 90-125, Rented Equipment Summary Record; FEMA Form 90-126, Contract Work Summary Record; FEMA Form 90-127, Force Account Equipment Summary Record; and FEMA Form 90-128, Applicant's Benefits Calculation Worksheet.

Abstract: The information collected is utilized by FEMA to make determinations for Public Assistance payments based on the information supplied by the respondents. The following listing provides the instances of information sharing and how the individual collection instruments provide necessary information for Public Assistance considerations. FEMA Form 90-49 identifies the applicant and initiates the request. FEMA Forms 90-91A, B, C and D identifies the scope of the work and cost estimates. FEMA Form 90-120 records factors that could affect the scope of the work. FEMA Form 90-121 is used to determine private non-profit applicant eligibility. FEMA Form 90-123 identifies employees from the applicant's own workforce who perform related work, and FEMA form 90-124 identifies materials of the applicant used on the project. FEMA Form 90-125 provides a list of materials rented for the project, FEMA Form 90-126 identifies contract costs for the project, FEMA Form 90-127 records the applicant's equipment costs and FEMA Form 90-128 provides the applicant's benefit costs for the project. The request for appeals, both first and second, and well as the arbitration requests allow for the applicant to request a review of determinations made.

Affected Public: State, Local or Tribal Government.

Estimated Total Annual Burden Hours: 167,554 Hours.

Table A.12—Estimated Annualized Burden Hours and Costs
Type of respondent | Form name/form number | Number of respondents | Number of responses per respondent | Total no. of responses | Avg. burden per response (in hours) | Total annual burden (in hours) | Avg. hourly wage rate* | Total annual respondent cost
State, Local or Tribal Government | Request for Public Assistance/FEMA Form 90-49 | 56 | 212 | 11,872 | 0.167 | 1,983 | $51.10 | $101,312
State, Local or Tribal Government | Project Worksheet (PW) and continuation forms/FEMA Form 90-91 (including sheets 90-91A, 90-91B, 90-91C and 90-91D) | 56 | 903 | 50,568 | 1.5 | 75,852 | 51.10 | 3,876,037
State, Local or Tribal Government | Special Considerations Questions/FEMA Form 90-120 | 56 | 903 | 50,568 | 0.5 | 25,284 | 51.10 | 1,292,012
State, Local or Tribal Government | Applicant's Benefits Calculation Worksheet/FEMA Form 90-128 | 56 | 903 | 50,568 | 0.5 | 25,284 | 51.10 | 1,292,012
State, Local or Tribal Government | PNP Facility Questionnaire/FEMA Form 90-121 | 56 | 94 | 5,264 | 0.5 | 2,632 | 51.10 | 134,495
State, Local or Tribal Government | Force Account Labor Summary Record/FEMA Form 90-123 | 56 | 94 | 5,264 | 0.5 | 2,632 | 51.10 | 134,495
State, Local or Tribal Government | Materials Summary Record/FEMA Form 90-124 | 56 | 94 | 5,264 | 0.25 | 1,316 | 51.10 | 67,248
State, Local or Tribal Government | Rented Equipment Summary Record/FEMA Form 90-125 | 56 | 94 | 5,264 | 0.5 | 2,632 | 51.10 | 134,495
State, Local or Tribal Government | Contract Work Summary Record/FEMA Form 90-126 | 56 | 94 | 5,264 | 0.5 | 2,632 | 51.10 | 134,495
State, Local or Tribal Government | Force Account Equipment Summary Record/FEMA Form 90-127 | 56 | 94 | 5,264 | 0.25 | 1,316 | 51.10 | 67,248
State, Local or Tribal Government | State Administrative Plan/No Form | 56 | 1 | 56 | 8 | 448 | 51.10 | 22,893
State, Local or Tribal Government | State Administrative Plan—Submission of Amendments After a Declaration/No Form | 56 | 1 | 56 | 8 | 448 | 51.10 | 22,893
State, Local or Tribal Government | Request for Time Extension/No Form | 56 | 47 | 2,632 | 0.5 | 1,316 | 51.10 | 67,248
State, Local or Tribal Government | Request for Additional Funding Cost Overruns for Large Projects/No Form | 56 | 19 | 1,064 | 0.5 | 532 | 51.10 | 27,185
State, Local or Tribal Government | Progress Report/No Form | 56 | 4 | 224 | 100 | 22,400 | 51.10 | 1,144,640
State, Local or Tribal Government | Request for First Appeal and Recommendation/No Form | 56 | 7 | 392 | 1 | 392 | 51.10 | 20,031
State, Local or Tribal Government | Request for Second Appeal and Recommendation/No Form | 56 | 2 | 112 | 1 | 112 | 51.10 | 5,723
State, Local or Tribal Government | Request for Arbitration/No Form | 171 | 1 | 171 | 1 | 171 | 51.10 | 8,738
State, Local or Tribal Government | Recommendation for Arbitration | 4 | 43 | 172 | 1 | 172 | 51.10 | 8,789
Total |  | 56 |  |  |  | 167,554 |  | $8,561,990

Estimated Cost: There are no annual reporting or recordkeeping costs associated with this collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Lawann Johnson,
Acting Director, Records Management Division, Office of Management, Federal Emergency Management Agency, Department of Homeland Security.

[FR Doc. E9-27542 Filed 11-16-09; 8:45 am]

BILLING CODE 9111-23-P